MERIT SYSTEMS PROTECTION BOARD

5 CFR Part 1201

Practices and Procedures

AGENCY: Merit Systems Protection Board.

ACTION: Final rule.

SUMMARY: The Merit Systems Protection Board (MSPB or the Board) is amending its rules of practice and procedure to reflect the relocation of its Washington Regional Office.

DATES: Effective July 29, 2013.

FOR FURTHER INFORMATION CONTACT: William D. Spencer, Clerk of the Board, Merit Systems Protection Board, 1615 M Street NW., Washington, DC 20419; phone: (202) 653-7200; fax: (202) 653-7130; or email: mspb@mspb.gov.

SUPPLEMENTARY INFORMATION: On July 26, 2013, MSPB will relocate its Washington Regional Office from 1800 Diagonal Road, Alexandria, Virginia, to 1901 S. Bell Street, Arlington, Virginia. Appendix II of this part is amended to show the new address. The facsimile number and the geographical areas served by the Washington Regional Office are unchanged. The Board is publishing this as a final rule pursuant to 5 U.S.C. 1204(h).

List of Subjects in 5 CFR Part 1201

Administrative practice and procedure.

Accordingly, the Board amends 5 CFR part 1201 as follows:

PART 1201—PRACTICES AND PROCEDURES

1. The authority citation for part 1201 continues to read as follows:

Authority: 5 U.S.C. 1204, 1305, and 7701, and 38 U.S.C. 4331, unless otherwise noted.

Appendix II to Part 1201 [Amended]

■ 2. Amend Appendix II to part 1201 in item 4. by removing “1800 Diagonal Road, Alexandria, Virginia 22314” and adding, in its place, “1901 S. Bell Street, Arlington, Virginia 22202”.

William D. Spencer,
Clerk of the Board.

[FR Doc. 2013-17592 Filed 7-22-13; 8:45 am]

BILLING CODE 7400-01-P